FEDERAL COMMUNICATIONS COMMISSION

47 CFR Part 73

[DA 05-3028, MB Docket No. 05-34, RM-10761]

Radio Broadcasting Services; Mt. Enterprise, TX

AGENCY: Federal Communications Commission.

ACTION: Final rule.

SUMMARY: This document denies a petition filed by Charles Crawford and grants a counterproposal filed by E-String Wireless, Ltd., by allotting Channel 231A at Mt. Enterprise, Texas with a site restriction of 12.5 kilometers (7.8 miles) north at reference coordinates 32-01-48 NL and 94-39-38 WL. See 70 FR 8559, published February 22, 2005. Additionally, the application for New FM Station, Channel 230A at Lufkin, File No. BMPH-20050329AAA, will be referred to the Technical Processing Group located in the Audio Division for processing.

DATES: Effective January 9, 2006.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 05-34, adopted November 23, 2005, and released November 25, 2005. The full text of this Commission decision is available for inspection and copying during normal business hours in the Commission's Reference Center, 445 12th Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Texas, is amended by adding Mt. Enterprise, Channel 231A.

Federal Communications Commission.
John A. Karousos,
Assistant Chief, Audio Division, Media Bureau.

[FR Doc. 05-23979 Filed 12-13-05; 8:45 am]

BILLING CODE 6712-01-P